DEPARTMENT OF THE INTERIOR

Pinedale Anticline Working Group and Task Groups; Notice

AGENCY: Bureau of Land Management (BLM), Interior.

ACTION: Pinedale Anticline Working Group and Task Groups—notice of establishment.

SUMMARY: This notice is published in accordance with section 9(a)(2) of the Federal Advisory Committee Act of 1972 (Pub. L. 92-463). Following consultation with the General Services Administration, notice is hereby given that the Secretary of the Interior has established the Pinedale Anticline Working Group and Task Groups. The purpose of the Committee and Subcommittees will be to advise the Bureau of Land Management, Pinedale Field Office Manager, regarding recommendations on matters pertinent to the Bureau of Land Management's responsibilities related to the Pinedale Anticline Environmental Impact Statement (EIS) and Record of Decision (ROD).

Members of the Working Group and Task Groups will be comprised of a representative from the State of Wyoming, a representative from the Town of Pinedale (Wyoming), a representative from the oil/gas operators, a representative from the Sublette County (Wyoming) Government, a representative from environmental groups, a representative from the affected landowners, a representative of the local livestock operators, and two members from the public-at-large.

FOR FURTHER INFORMATION CONTACT: Ms. Priscilla E. Mecham, Pinedale Field Office Manager, Bureau of Land Management, 432 East Mill Street, P.O. Box 768, Pinedale, Wyoming 82941, Phone: (307) 367-5300. The certification of establishment is published below.

Certification

I hereby certify that the establishment of the Pinedale Anticline Working Group and Task Groups is necessary and in the public interest in connection with the Secretary of the Interior's responsibilities to manage the lands, resources, and facilities administered by the Bureau of Land Management.

Dated: August 15, 2002.
Gale A. Norton,
Secretary of the Interior.

[FR Doc. 02-21683 Filed 8-23-02; 8:45 am]

BILLING CODE 4310-22-P